ENVIRONMENTAL PROTECTION AGENCY

[OA-2005-0002; FRL-7978-8]

Agency Information Collection Activities; Submission to OMB for Review and Approval; Comment Request; Regulatory Pilot Projects (Renewal), EPA ICR Number 1755.07, OMB Control Number 2010-0026

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a renewal of an existing approved collection. This ICR was scheduled to expire on September 30, 2005. Under OMB regulations, the Agency may continue to conduct or sponsor the collection of information while this submission is pending at OMB. This ICR describes the nature of the information collection and its estimated burden and cost.

DATES: Additional comments may be submitted on or before November 3, 2005.

ADDRESSES: Submit your comments, referencing docket ID number OA-2005-0002, to (1) EPA online using EDOCKET (our preferred method), by e-mail to OEI.docket@epa.gov, or by mail to: EPA Docket Center, Environmental Protection Agency, Regulatory Innovation Pilot Projects, MC 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Mr. Douglas Heimlich in the Office of Environmental Policy Innovation may be reached by phone at (202) 566-2234, by e-mail at heimlich.douglas@epa.gov, or by FAX at (202) 566-2200. Or, contact Dr. Gerald Filbin in the Office of Environmental Policy Innovation at (202) 566-2182, by e-mail at filbin.gerald@epa.gov, or by FAX at (202) 566-2211.

SUPPLEMENTARY INFORMATION: EPA has submitted the following ICR to OMB for review and approval according to the procedures prescribed in 5 CFR 1320.12. On June 8, 2005 (70 FR 33472), EPA sought comments on this ICR pursuant to 5 CFR 1320.8(d). EPA received no comments.

EPA has established a public docket for this ICR under Docket ID No. OA-2005-0002, which is available for public viewing at the Office of the Administrator Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of the Administrator Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Regulatory Pilot Projects (Renewal).

Abstract: In March 1995, the U.S. Environmental Protection Agency initiated Regulatory Innovation Pilot Projects in response to a challenge to transform the environmental regulatory system to better meet the needs of a rapidly changing society while maintaining the nation's commitment to protect human health and safeguard the natural environment. EPA's first regulatory innovation pilot mechanism was Project XL, or eXcellence and Leadership (http://www.epa.gov/ProjectXL/). EPA used Project XL to support a variety of innovation pilots to gather data and project experience that will help the Agency redesign current approaches to public health and environmental protection. Through site-specific agreements with project sponsors, Project XL has given companies, communities, local governments, military bases, and universities flexibility from certain environmental regulations in exchange for commitments to achieve superior environmental performance at less cost. EPA no longer accepts new projects under the XL program, however, EPA is completing the earlier projects initiated under Project XL.

Before submitting an official Project XL proposal to EPA, the project sponsor typically engaged in informal discussions with EPA about proposal design. Once a formal proposal was submitted, EPA along with the corresponding state environmental agency reviewed the proposal. EPA based acceptance of proposals on the extent to which proposals met the following eight criteria: (1) Superior environmental performance, (2) cost savings and reduced paperwork, (3) stakeholder involvement, (4) innovation or pollution prevention, (5) transferability, (6) feasibility, (7) monitoring, reporting and evaluation, and (8) no shifting of risk burden. If the proposal was accepted, EPA and the partnering state agency negotiated the conditions of the proposal with the project sponsor along with other interested stakeholders, including local and national environmental groups and nearby community residents. Once an agreement was reached regarding the conditions of the proposal and the necessary regulatory flexibility, the Final Project Agreement (FPA) was signed and the project sponsor began implementation.

Starting in 2002, EPA developed a new mechanism for pilot projects that allowed the Agency to test regulatory innovation strategically and on a larger scale. Information collection for the purpose of grant competition solicitations are covered under another Agency ICR and will not be included here except for burden created in pre-competition consultation with States on subject areas for inclusion in the annual State Innovation Grant solicitation. General information on the State Innovation Grant Program can be found at the following URL http://www.epa.gov/innovation/stategrants/).

An agency may not conduct or sponsor, and a person is not required to respond to, a collection of information unless it displays a currently valid OMB control number. The OMB control numbers for EPA's regulations in 40 CFR are listed in 40 CFR part 9 and are identified on the form and/or instrument, if applicable.

Burden Statement: EPA estimates that each project sponsor for projects implemented under Project XL will use 20 hours, or 120 for all respondents, for the development of progress reports and a final project report and to address a small range of evaluation questions from EPA at the close of an individual project. Similarly, EPA anticipates that State Innovation Grants Projects may require States and Tribes that choose to respond to EPA's invitation to comment to expend up 32 hours each, annually, or 768 hours collectively (average of 24 States and Tribes providing comment) each year in consultation with EPA.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to, a collection of information unless it displays a currently valid OMB control number. The OMB control numbers for EPA's regulations are listed in 40 CFR Part 9 and 48 CFR Chapter 15.

Respondents/Affected Entities: Companies, States or other entities in the voluntary Regulatory Pilot Projects.

Estimated Number of Respondents: 30.

Estimated Total Annual Hour Burden: 888 hours.

Estimated Total Annual Costs: $40,704, that includes $0 Capital or O&M costs.

Changes in the Estimates: There is a reduction of 71,411 hours. This difference is largely a result of moving away from individual facility proposals and toward state-wide projects, thus reducing substantially the number of pre-proposal submissions for testing while focusing on larger, more systems-change oriented projects. This difference is also a result of EPA's ability to refine the estimates based upon 10 years of experience promoting regulatory innovation and a better understanding of the burden requirements necessary to develop and submit proposals for innovative pilot projects, and an improved understanding of innovative pilot projects and how to develop them.

Dated: September 22, 2005.
Oscar Morales,
Director, Collection Strategies Division.

[FR Doc. 05-19862 Filed 10-3-05; 8:45 am]

BILLING CODE 6560-50-P